NATIONAL AERONAUTICS AND SPACE ADMINISTRATION

[Notice (04-114)]

NASA Advisory Council, Space Science Advisory Committee Sun-Earth Connection Advisory Subcommittee; Meeting

AGENCY: National Aeronautics and Space Administration (NASA).

ACTION: Notice of meeting.

SUMMARY: The National Aeronautics and Space Administration announces a forthcoming meeting of the NASA Advisory Council (NAC), Space Science Advisory Committee (SScAC), Sun-Earth Connection Advisory Subcommittee (SECAS).

DATES: Wednesday, November 3, 2004, 8:30 a.m. to 5:30 p.m., Thursday, November 4, 2004, 8:30 a.m. to 5:30 p.m., and Friday, November 5, 2004, 8:30 a.m. to 3 p.m.

ADDRESSES: NASA Headquarters, Rooms 6H46 (November 3) and 9H46 (November 4 and 5), 300 E Street, SW., Washington, DC 20546.

FOR FURTHER INFORMATION CONTACT: Dr. Barbara Giles, Science Mission Directorate, National Aeronautics and Space Administration, Washington, DC 20546, (202) 358-1762, barbara.giles@nasa.gov.

SUPPLEMENTARY INFORMATION: The meeting will be open to the public up to the capacity of the room. The agenda for the meeting includes the following topics:

—Sun-Earth Systems Program Overview and Status

—Reports from Sun-Solar System Connection Management Operations Working Groups

—Sun-Solar System Connection Roadmap Status Report

—Revised Advisory Committee Structure Discussion

Attendees will be requested to sign a register and to comply with NASA security requirements, including the presentation of a valid picture ID, before receiving an access badge. Foreign nationals attending this meeting will be required to provide the following information no less than 3 working days prior to the meeting: Full name; gender; date/place of birth; citizenship; visa/green card information (number, type, expiration date); passport information (number, country, expiration date); employer/affiliation information (name of institution, address, country, phone); title/position of attendee. To expedite admittance, attendees with U.S. citizenship can provide identifying information in advance by contacting Marian Norris via e-mail at mnorris@nasa.gov or by telephone at (202) 358-4452. It is imperative that the meeting be held on these dates to accommodate the scheduling priorities of the key participants.

P. Diane Rausch,
Advisory Committee Management Officer, National Aeronautics and Space Administration.

[FR Doc. 04-23540 Filed 10-20-04; 8:45 am]

BILLING CODE 7510-03-P